DEPARTMENT OF LABOR

Employment and Training Administration

[TA-W-37-451A and TA-W-37-451B]

Cross Creek Apparel, Inc.; Walnut Cove, NC; Newport, NC; Amended Certification Regarding Eligibility To Apply for worker Adjustment Assistance

In accordance with Section 223 of the Trade Act of 1974 (19 U.S.C. 2273) the Department of Labor issued a Notice of Certification Regarding Eligibility to Apply for Worker Adjustment Assistance on April 4, 2000, applicable to workers of Cross Creek Apparel, Inc., Walnut Cove, North Carolina. The notice was published in the Federal Register on April 21, 2000 (65 FR 21473).

At the request of the company, the Department reviewed the determination for workers of the subject firm. New information provided by the company shows that worker separations will occur at Cross Creek's Newport, North Carolina facility when it closes in July, 2000. The workers are engaged in employment related to the production of knit apparel. Accordingly, the Department is amending the determination to cover workers of Cross Creek Apparel, Inc., Newport, North Carolina.

The intent of the Department's certification is to include all workers of Cross Creek Apparel, Inc. adversely affected by increased imports.

The amended notice applicable to TA-W-37,451A is hereby issued as follows:

All workers of Cross Creek Apparel, Inc., Walnut Cove, North Carolina (TA-W-37,451A) and Newport, North Carolina (TA-W-37,451B) who became totally or partially separated from employment on or after February 21, 1999 through April 4, 2002 are eligible to apply for adjustment assistance under Section 223 of the Trade Act of 1974.

Signed at Washington DC, this 1st day of June, 2000.
Grant D. Beale,
Program Manager, Division of Trade Adjustment Assistance.

[FR Doc. 00-14469 Filed 6-7-00; 8:45 am]

BILLING CODE 4510-30-M